DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Tag Recapture Card.

OMB Control Number: 0648-0259.

Form Number(s): NA.

Type of Request: Regular submission.

Number of Respondents: 240.

Average Hours per Response: 2 minutes.

Burden Hours: 8.

Needs and Uses: This request is for the renewal of a currently approved information collection.

The Cooperative Game Fish Tagging Program (CGFTP) was initiated in 1954 by Woods Hole Oceanographic Institution (WHOI). In 1973 the CGFTP became a cooperative effort between WHOI and the National Marine Fisheries (NMFS) as part of a comprehensive research program resulting from passage of the Migratory Game Fish Study Act of 1959 (Pub. L. 86-359) and other legislative acts under which the NMFS operates. In 1980 sole control of the CGFTP was handed over to the NMFS. The CGFTP was later renamed the Cooperative Tagging Center (CTC). The CTC attempts to determine the migratory patterns and other biological information of billfish, tunas, and swordfish by having fishermen tag and release their catch, so that fish can be subsequently recaptured.

The primary objectives of a tagging program are to obtain scientific information on fish growth and movements necessary to assist in stock assessment and management. This is accomplished by the random recapture of tagged fish by fishermen and the subsequent voluntary submission of the appropriate data.

Affected Public: Individuals or households.

Frequency: On occasion.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: January 28, 2011.
Gwellnar Banks,
Management Analyst, Office of the Chief Information Officer.

[FR Doc. 2011-2232 Filed 2-1-11; 8:45 am]

BILLING CODE 3510-22-P